DEPARTMENT OF EDUCATION

[Docket No.: ED-2021-SCC-0134]

Agency Information Collection Activities; Submission to the Office of Management and Budget for Review and Approval; Comment Request; National Evaluation of the 2019 Comprehensive Centers Program Grantees

AGENCY: Institute of Education Sciences (IES), Department of Education (ED).

ACTION: Notice.

SUMMARY: In accordance with the Paperwork Reduction Act of 1995, ED is proposing a new collection.

DATES: Interested persons are invited to submit comments on or before March 7, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Andrew Abrams, 202-245-7500.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Evaluation of the 2019 Comprehensive Centers Program Grantees.

OMB Control Number: 1850-NEW.

Type of Review: New collection.

Respondents/Affected Public: Private Sector.

Total Estimated Number of Annual Responses: 259.

Total Estimated Number of Annual Burden Hours: 106.

Abstract: The 2015 update to the federal law governing K-12 schooling gave state (SEAs) and local education agencies (LEAs) increased responsibilities, and, therefore, extra demands on their time and capabilities. The Comprehensive Centers program, funded by the U.S. Department of Education at over $50 million per year, provides training, tools, and other supports to help these agencies carry out their education plans and take steps to close achievement gaps. The Centers' services aim to build individual and organizational capacity to help identify and solve key problems. This evaluation will examine the delivery and usefulness of the Centers' technical assistance, given potential new stakeholder needs and changes in the Center program that took effect with the 20 new grants awarded in in 2019. Congress requires a periodic evaluation of the Comprehensive Centers program, with the results intended to inform ongoing program improvements.

Dated: February 1, 2022.
Juliana Pearson,
PRA Coordinator, Strategic Collections and Clearance, Governance and Strategy Division, Office of Chief Data Officer, Office of Planning, Evaluation and Policy Development.

[FR Doc. 2022-02391 Filed 2-3-22; 8:45 am]

BILLING CODE 4000-01-P